GENERAL ACCOUNTING OFFICE

Opportunity To “Ride” Printing Order for Volume IV of GAO's Principles of Federal Appropriations Law

AGENCY: General Accounting Office.

ACTION: Notice.

SUMMARY: GAO is publishing Volume IV of Principles of Federal Appropriations Law, second edition—known as “The Red Book.” Agencies may now place advance (rider) orders for copies of this volume with GPO.

DATES: Rider orders must be received by GPO no later than June 6, 2001.

SUPPLEMENTARY INFORMATION: The General Accounting Office (GAO) will shortly publish Volume IV of Principles of Federal Appropriations Law, second edition—also known as “The Red Book.” Volume IV will consist of three chapters covering goods and services, real property, boards and commissions, nonappropriated fund instrumentalities, corporations, and trust funds. Later this year, GAO will publish Volume V of the Red Book which will consist of a comprehensive index and tables of authority covering all of the preceding four volumes. Volumes IV and V complete the second edition of GAO's Principles of Federal Appropriations Law.

GAO will provide one copy of each of these volumes to the heads of federal agencies. Agencies may place advance (rider) orders for additional copies of these volumes with their account representatives at the Government Printing Office (GPO). At the present time, agencies may only place rider orders for Volume IV. A separate announcement will be issued later this year when rider orders may be placed for Volume V.

This notice is not intended to solicit orders from the general public for single copies or small orders of these volumes. GPO will offer volumes IV and V for sale to the general public at a later time.

Rider orders for Volume IV should be placed on a Standard Form 1 and should specify GAO Requisition No. 1-00050. Agency orders for Volume IV must be received by GPO no later than June 6, 2001. Rider requisitions for Volume IV will not be accepted after this date, and additional copies will have to be purchased from the Superintendent of Documents. All rider requisitions must be submitted to GPO through each agency's Washington, DC headquarters printing procurement office. We are advised that GPO will return all requisitions sent directly from field or regional offices.

In compiling your agency's total order, GAO suggests that you take into consideration the needs of legal offices, finance offices, contracting offices, libraries, Inspector General offices, field and regional offices, and any other elements of your agency that might use this publication.

As with the previous three volumes of this series, Volume IV of Principles of Federal Appropriations Law is designed to fit in a red 3-ring binder imprinted with the title and other identification data. A binder and chapter tabs are included with each volume ordered. Volume V will be published in the “perfect-bound” format. Consequently, it will not require a binder.

(Authority: 31 U.S.C. 717, 719, 3511, 3526-29.)

Dated: April 6, 2001.
Anthony Gamboa,
General Counsel, United States General Accounting Office.

[FR Doc. 01-8906 Filed 4-10-01; 8:45 am]

BILLING CODE 1610-02-M